DEPARTMENT OF TRANSPORTATION

Coast Guard

33 CFR Part 165

[CGD01-00-220]

RIN 2115-AA97

Safety Zone; Oil Spill Recovery, Lower New York and Sandy Hook Bays

AGENCY: Coast Guard, DOT.

ACTION: Temporary final rule.

SUMMARY: The Coast Guard is establishing a temporary safety zone for an oil spill recovery on Lower New York and Sandy Hook Bays. This action is necessary to protect recovery personnel and vessels in the vicinity of oil spill recovery operations. This action is intended to restrict vessel traffic in a portion of Lower New York and Sandy Hook Bays.

DATES: This rule is effective from 7 p.m. (e.s.t.) on September 14, 2000, until 7 a.m. (e.s.t.) on September 25, 2000.

ADDRESSES: Comments and material received from the public, as well as documents indicated in this preamble as being available in the docket, are part of docket (CGD01-00-220) and are available for inspection or copying at Coast Guard Activities New York, 212 Coast Guard Drive, room 204, Staten Island, New York 10305, between 8 a.m. and 3 p.m., Monday through Friday, except Federal holidays.

FOR FURTHER INFORMATION CONTACT: Lieutenant M. Day, Waterways Oversight Branch, Coast Guard Activities New York (718) 354-4012.

SUPPLEMENTARY INFORMATION:

Regulatory Information

We did not publish a notice of proposed rulemaking (NPRM) for this regulation. Under 5 U.S.C. 553(b)(8), the Coast Guard finds that good cause exists for not publishing an NPRM. Good cause exists for not publishing an NPRM due to the fact that the safety zone is required due to an unforeseen oil spill. Any delay encountered in this regulation's effective date would be unnecessary and contrary to public interest since immediate action is needed to close the waterway and protect the recovery personnel and vessels in the vicinity of oil spill recovery operations.

Under 5 U.S.C. 553(d)(3), the Coast Guard finds that good cause exists for making this rule effective less than 30 days after publication in the Federal Register. This is due to the following reasons: It is an unforeseen oil spill and is needed to protect the recovery personnel and vessels in the vicinity of the oil spill recovery operations.

Background and Purpose

There was an oil spill in the vicinity of the Naval Weapons Station, Earle, NJ on September 14, 2000. The Coast Guard is establishing a temporary safety zone to provide safety to personnel engaged in recovery operations and to vessels in the area. The safety zone is in effect from 7 p.m. (e.s.t.) on September 14, 2000, until 7 a.m. (e.s.t.) on Monday, September 25, 2000. The effective times of this safety zone may be extended or shortened depending on the time required to conduct the oil spill recovery. The safety zone prevents vessels from transiting a portion of Lower New York and Sandy Hook Bays. The safety zone includes all waters of Lower New York and Sandy Hook Bays bound by the following points: 40°27.449′ N, 074°08.224′ W onshore at Point Comfort, NJ, thence to Old Orchard Shoal Light (LLNR 35395), thence to Chapel Hill South Channel Lighted Bell Buoy 10 (LLNR 35235), thence to 40°28.656′ N, 074°01.076′ W onshore at Sandy Hook Point, thence to Atlantic Highlands Breakwater Light (LLNR 35595). Marine traffic will not be allowed within this safety zone without authorization from the Captain of the Port New York. The size and duration of this zone may be expanded or contracted as required for oil spill recovery activities. Public notifications will be made by facsimile and broadcast notice to mariners as required.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, 1979).

The Coast Guard expects the economic impact of this final rule to be so minimal that a full Regulatory Evaluation under paragraph 10e of the regulatory policies and procedures of DOT is unnecessary. This finding is based on the minimal time that vessels will be restricted from the zone, and the unforeseen nature of the oil spill.

The size of this safety zone was determined using the predicted tides and currents for the area affected by the oil spill.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: The owners or operators of vessels intending to transit or anchor in a portion of Lower New York and Sandy Hook Bays during the times this zone is activated.

This safety zone will not have a significant economic impact on a substantial number of small entities for the following reasons: It is due to an unforeseen oil spill. The size and duration of the zone may be expanded or contracted due to oil spill recovery operations.

Assistance for Small Entities

Under section 213(a) of the Small Business Regulatory Enforcement Fairness Act of 1996 (Pub. L. 104-121), we offered to assist small entities in understanding the rule so that they could better evaluate its effects on them and participate in the rulemaking process.

The Coast Guard certifies under 5 U.S.C. 605(b) that this rule will not have a significant economic impact on a substantial number of small entities as the zone will only be in effect for the time required to complete the oil spill recovery operations.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that Order.

Unfunded Mandates

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that under figure 2-1, paragraph 34(g), of Commandant Instruction M16475.1C, this rule is categorically excluded from further environmental documentation. This rule fits paragraph 34(g) as it establishes a safety zone. A “Categorical Exclusion Determination” is available in the docket for inspection or copying where indicated under ADDRESSES.

List of Subjects in 33 CFR Part 165

Harbors, Marine Safety, Navigation (water), Reporting and recordkeeping requirements, Security measures, Waterways.

Regulation

For the reasons discussed in the preamble, the Coast Guard amends 33 CFR Part 165 as follows:

PART 165—REGULATED NAVIGATION AREAS AND LIMITED ACCESS AREAS

1. The authority citation for Part 165 continues to read as follows:

Authority: 33 U.S.C. 1231; 50 U.S.C. 191; 33 CFR 1.05-1(g), 6.04-1, 6.04-6, 160.5; 49 CFR 1.46.

2. Add temporary § 165.T01-220 to read as follows:

§ 165.T01-220 Safety Zone; Oil Spill Cleanup, Lower New York and Sandy Hook Bays.

(a) Location. The following area is a safety zone: All waters of Lower New York and Sandy Hook Bays bound by the following points: 40°27.449′ N, 074°08.224′ W onshore at Point Comfort, NJ, thence to Old Orchard Shoal Light (LLNR 35395), thence to Chapel Hill South Channel Lighted Bell Buoy 10 (LLNR 35235), thence to 40°28.656′ N, 074°01.076′ W onshore at Sandy Hook Point, thence to Atlantic Highlands Breakwater Light (LLNR 35595).

(b) Effective period. This section is effective from 7 p.m. (e.s.t.) on September 14, 2000, until 7 a.m. (e.s.t.) on September 25, 2000. The size and duration of this safety zone may be expanded or contracted due to requirements for the oil spill cleanup.

(c) Regulations. (1) The general regulations contained in 33 CFR 165.23 apply.

(2) All persons and vessels shall comply with the instructions of the Coast Guard Captain of the Port or the designated on-scene-patrol personnel. These personnel comprise commissioned, warrant, and petty officers of the Coast Guard. Upon being hailed by a U.S. Coast Guard vessel by siren, radio, flashing light, or other means, the operator of a vessel shall proceed as directed.

Dated: September 14, 2000.
P.A. Harris,
U.S. Coast Guard, Acting Captain of the Port, New York.

[FR Doc. 00-24799 Filed 9-22-00; 4:35 pm]

BILLING CODE 4910-15-P